DEPARTMENT OF THE INTERIOR

Bureau of Land Management

[ID-957-1420-BJ]

Idaho: Filing of Plats of Survey

AGENCY: Bureau of Land Management, Interior.

ACTION: Notice of filing of plats of surveys.

SUMMARY: The Bureau of Land Management (BLM) has officially filed the plats of survey of the lands described below in the BLM Idaho State Office, Boise, Idaho, effective 9 a.m., on the dates specified.

FOR FURTHER INFORMATION CONTACT: Bureau of Land Management, 1387 South Vinnell Way, Boise, Idaho 83709-1657.

SUPPLEMENTARY INFORMATION: These surveys were executed at the request of the Bureau of Land Management to meet their administrative needs. The lands surveyed are:

The supplemental plat of section 16, T. 5 N., R. 11 E., Boise Meridian, Idaho, was prepared to amend certain lottings.

The supplemental plat showing of section 5, T. 9 S., R. 20 E., Boise Meridian, Idaho, was prepared to amend certain erroneous acreages as depicted on the plat accepted August 17, 1951.

The supplemental plat of sections 1, 2, 11, 12 and 14, T. 5 S., R. 4 W., Boise Meridian, Idaho, prepared to amend certain lottings.

These surveys were executed at the request of the USDA Forest Service to meet certain administrative and management purposes. The lands surveyed are:

The plat representing the dependent resurvey of a portion of the west boundary, T. 13 N., R. 27 E., Boise Meridian, Idaho, Group Number 1254, was accepted July 23, 2009.

These surveys were executed at the request of the Bureau of Indian Affairs to meet their administrative needs. The lands surveyed are:

The plat representing the dependent resurvey of a portion of the North Boundary of the Nez Perce Indian Reservation, south and west boundaries, and subdivisional lines and subdivision of sections 17, 18, 21, 22, and 35, Township 37 North, Range 1 West, Boise Meridian, Idaho, Group Number 1265, was accepted September 18, 2009. The plat representing the dependent resurvey of portions of the east boundary and subdivisional lines, and the subdivision of sections 25 and 35, and the survey of the 2008 meanders of the Blackfoot River in sections 24, 25, 26, 34, and 35, and the North Boundary of the Fort Hall Indian Reservation in sections 24, 25, 26, 34, and 35, Township 2 South, Range 36 East, of the Boise Meridian, Idaho, Group Number 1266, was accepted September 30, 2009.

The plat representing the dependent resurvey of a portion of the east boundary, a portion of the north boundary, a portion of the subdivisional lines, and the 1907 meanders of the left bank of the Blackfoot River in section 8, and the subdivision of certain sections, and the survey of the 2008-2009 meanders of the Blackfoot River in sections 3, 8, 9, and 10, and the North Boundary of the Fort Hall Indian Reservation in sections 3, 8, 9, and 10, Township 3 South, Range 36 East, Boise Meridian, Idaho, Group Number 1267, was accepted September 30, 2009.

Dated: October 1, 2009.
Stanley G. French,
Chief Cadastral Surveyor for Idaho.

[FR Doc. E9-26201 Filed 10-29-09; 8:45 am]

BILLING CODE 4310-GG-P